EXPORT-IMPORT BANK OF THE UNITED STATES

[Public Notice: 2014-6007; Form Title: EIB 92-79]

Agency Information Collection Activities; Proposals Submissions, and Approvals: Broker Registration Form

AGENCY: Export-Import Bank of the United States.

ACTION: Submission for OMB review and comments request.

SUMMARY: The Export-Import Bank of the United States (Ex-Im Bank), as a part of its continuing effort to reduce paperwork and respondent burden, invites the general public and other Federal Agencies to comment on the proposed information collection, as required by the Paperwork Reduction Act of 1995. Our customers will be able to submit this form on paper or electronically. This form is used by insurance brokers to register with Export-Import Bank. It provides Export-Import Bank staff with the information necessary to make a determination of the eligibility of the broker to receive commission payments under Export-Import Bank's credit insurance programs.

Form can be viewed at http://www.exim.gov/pub/pending/eib92-79.pdf.

DATES: Comments must be received on or before May 20, 2014, 2014 to be assured of consideration.

ADDRESSES: Comments may be submitted electronically on WWW.REGULATIONS.GOV or by mail to Michele Kuester, Export-Import Bank of the United States, 811 Vermont Ave. NW., Washington, DC 20571.

SUPPLEMENTARY INFORMATION:

Title and Form Number: EIB 92-27 Broker Registration Form.

OMB Number: 3048-0024.

Type of Review: Regular.

Need and Use: This form is used by insurance brokers to register with Export Import Bank. The form provides Export Import Bank staff with the information necessary to make a determination of the eligibility of the broker to receive commission payments under Export Import Bank's credit insurance programs.

Affected Public: This form affects entities engaged in brokering export credit insurance policies.

Annual Number of Respondents: 50.

Estimated Time per Respondent: 15 minutes.

Government Review Time per Response: 2 hours.

Frequency of Reporting or Use: Once every three years.

Government Reviewing Time per Year: 100 hours.

Average Wages per Hour: $42.50.

Average Cost per Year: $4,250.

Benefits and Overhead: 20%.

Total Government Cost: $5,100.

Alla Lake,
Agency Clearance Officer.

[FR Doc. 2014-06147 Filed 3-20-14; 8:45 am]

BILLING CODE 6690-01-P